ENVIRONMENTAL PROTECTION AGENCY

[FRL-8919-6; Docket ID No. EPA-HQ-ORD-2009-0210]

Draft Toxicological Review of 1,4-Dioxane: In Support of the Summary Information in the Integrated Risk Information System (IRIS); Correction

AGENCY: Environmental Protection Agency (EPA).

ACTION: Notice; correction.

SUMMARY: The EPA published a notice in the Federal Register of Tuesday, June 9, 2009 (74 FR, 27313-27315), announcing a listening session for the external review draft document titled, “Toxicological Review of 1,4-Dioxane: In Support of Summary Information on the Integrated Risk Information System (IRIS)” (EPA/635/R-09/005). The notice contained incorrect dates.

FOR FURTHER INFORMATION CONTACT: For information on the public listening session, please contact Christine Ross, IRIS Staff, National Center for Environmental Assessment (NCEA), (8601P), U.S. EPA, 1200 Pennsylvania Avenue, NW., Washington, DC 20460; telephone: 703-347-8592; facsimile: 703-347-8689; or e-mail: ross.christine@epa.gov.

Correction

In the Federal Register of June 9, 2009, in FR Doc. FRL-8914-2, on page 27314, in the second column, correct the Dates and Addresses captions to read:

DATES: The listening session on the draft IRIS health assessment for 1,4-dioxane will be held on Monday, July 6, 2009, beginning at 9 a.m. and ending at 4 p.m., Eastern Daylight Time. If you wish to make a presentation at the listening session, you should register by Monday, June 29, 2009, and indicate that you wish to make oral comments at the session, and indicate the length of your presentation. At the time of your registration, please indicate if you require audio-visual aid (e.g., lap top and slide projector). In general, each presentation should be no more than 30 minutes. If, however, there are more requests for presentations than the allotted time will allow, then the time limit for each presentation will be adjusted accordingly. A copy of the agenda for the listening session will be available at the meeting. If no speakers have registered by Monday, June 29, the listening session will be cancelled. EPA will notify those registered to attend of the cancellation.

ADDRESSES: The listening session on the draft 1,4-dioxane assessment will be held at the EPA offices at Two Potomac Yard (North Building), 7th Floor, Room 7100, 2733 South Crystal Drive, Arlington, Virginia 22202. To attend the listening session, register by Monday, June 29, 2009, via the Internet at http://epa.versar.com/14dioxane/listening. You may also register via e-mail: ssarraino@versar.com (subject line: 1,4-Dioxane Listening Session), by phone (703) 750-3000, ext. 316 or toll free at 1-800-2-VERSAR (1-800-283-7727), (ask for the 1,4-Dioxane listening session coordinator, Stephanie Sarraino), or by faxing a registration request to (703) 642-6954 (please reference the “1,4-Dioxane Listening Session” and include your name, title, affiliation, full address and contact information).

Dated: June 11, 2009.
Rebecca Clark,
Acting Director, National Center for Environmental Assessment.

[FR Doc. E9-14246 Filed 6-16-09; 8:45 am]

BILLING CODE 6560-50-P